NUCLEAR REGULATORY COMMISSION

[Docket No. 52-014 and 52-015; NRC-2008-0043]

Tennessee Valley Authority Combined License Application for Bellefonte Nuclear Plant, Units 3 and 4

AGENCY: Nuclear Regulatory Commission.

ACTION: Application for combined license; withdrawal.

SUMMARY: The U.S. Nuclear Regulatory Commission (NRC) is granting the Tennessee Valley Authority (TVA) request to withdraw its application for combined licenses (COLs) for Bellefonte Nuclear Plant, Units 3 and 4, located near the town of Scottsboro in Jackson County, Alabama.

DATES: The effective date of the withdrawal is November 16, 2016.

ADDRESSES: Please refer to Docket ID NRC-2008-0043 when contacting the NRC about the availability of information regarding this document. You may obtain publicly-available information related to this document using any of the following methods:

• Federal Rulemaking Web site: Go to http://www.regulations.gov and search for Docket ID NRC-2008-0043. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Donald Habib, Office of New Reactors, U.S. Nuclear Regulatory Commission, Washington, DC 20555-0001; telephone: 301-415-1035, email: Donald.Habib@nrc.gov.

SUPPLEMENTARY INFORMATION: By letter dated October 30, 2007 (ADAMS Accession No. ML073110527), as supplemented by letters dated November 2, 2007, January 8, 2008, and January 14, 2008 (ADAMS Accession Nos. ML073090428, ML080100104, and ML080160252), TVA submitted an application to the NRC for COLs for two AP1000 advanced passive pressurized water reactors in accordance with the requirements contained in part 52 of title 10 of the Code of Federal Regulations (10 CFR), “Licenses, Certifications and Approvals for Nuclear Power Plants.” The two new reactors were identified as Bellefonte Nuclear Plant, Units 3 and 4 and would have been located near the town of Scottsboro in Jackson County, Alabama.

A notice acknowledging receipt and availability of this application was previously published in the Federal Register on November 27, 2007 (72 FR 66200). Subsequently, a notice announcing the acceptance for docketing of the COL application in accordance with 10 CFR part 2, “Agency Rules of Practice and Procedure” and 10 CFR part 52 was published in the Federal Register on January 28, 2008 (73 FR 4923). The docket numbers established for this application were 52-014 and 52-015.

By letter dated September 29, 2010 (ADAMS Accession No. ML102740476), TVA requested that the NRC suspend review of its COL application until further notice. The NRC granted the requested suspension (ADAMS Accession No. ML102930207). On October 28, 2013, and November 21, 2014 (ADAMS Accession Nos. ML13325B058 and ML14328A720), TVA requested exemptions from certain regulatory requirements that require it to submit updates to the Final Safety Analysis Report included in their COL application until requesting the NRC to resume its review of their COL application. The NRC granted the requested exemptions (ADAMS Accession Nos. ML13318A427 and ML15335A091). By letter dated March 28, 2016 (ADAMS Accession No. ML16088A258), TVA requested withdrawal of its Bellefonte Units 3 and 4 COL application. Pursuant to the requirements in 10 CFR part 2, the Commission grants TVA its request to withdraw the Bellefonte Units 3 and 4 COL application.

Dated at Rockville, Maryland, this 16th day of November 2016.
For the Nuclear Regulatory Commission.
Anna Bradford,
Acting Director, Division of New Reactor Licensing, Office of New Reactors.

[FR Doc. 2016-28373 Filed 11-23-16; 8:45 am]

BILLING CODE 7590-01-P